DEPARTMENT OF THE INTERIOR

Bureau of Indian Affairs

Notice of Intent To Prepare an Environmental Impact Statement for the Weber Dam Repair and Modification Project, Lyon and Mineral Counties, NV

AGENCY: Bureau of Indian Affairs, Interior.

ACTION: Notice.

SUMMARY: This notice advises the public that the Bureau of Indian Affairs (BIA), with the cooperation of the Walker River Paiute Indian Tribe (Tribe), intends to gather information necessary for preparing an Environmental Impact Statement (EIS) for the Weber Dam Repair and Modification Project on the Walker River Paiute Reservation, Lyon and Mineral Counties, Nevada. The purpose of the project is to correct unsafe conditions at Weber Dam in order to protect health and welfare needs of the Walker River Paiute and the citizens of the two counties. Details on the project location, proposed action, alternatives, and initial area of environmental concern to be addressed in the EIS are provided in the SUPPLEMENTARY INFORMATION section. This notice also announces public meetings on the scope of issues to be addressed in the EIS.

DATES: Comments on the scope and implementation of this proposal must arrive by June 18, 2001. The public scoping meetings will be held on June 5, 2001, from 6 p.m. to 8 p.m., and on June 6, 2001, from 6 p.m. to 8 p.m.

ADDRESSES: You may mail or hand carry written comments to Amy L. Heuslein, Regional Environmental Protection Officer, Western Regional Office, Bureau of Indian Affairs, Environmental Quality Services, P.O. Box 10 (400 N. 5th Street, 14th floor), Phoenix, Arizona, 85001; or to Chuck O'Rourke, Natural Resources Officer, Western Nevada Agency, Bureau of Indian Affairs, 1677 Hot Springs Road, Carson City, Nevada, 89706. (See SUPPLEMENTARY INFORMATION for E-mail options.)

The June 5, 2001, public meeting will be held at the Walker River Paiute Tribal Hall, #1 Hospital Road, Schurz, Nevada. The June 6, 2001, public meeting will be held at the Casino West Convention Center, 11 N. Main Street, Yerington, Nevada.

FOR FURTHER INFORMATION CONTACT: Amy Heuslein, (602) 379-6750, or Chuck O'Rourke, (775) 887-3550.

SUPPLEMENTARY INFORMATION: Weber Dam is located on the Walker River, northwest of the town of Schurz, Nevada, and upriver from Walker Lake. Walker Lake is a desert lake located at the terminus of the Walker River, which once supported naturally-reproducing, indigenous, Lahontan cutthroat trout (Oncorhyncus clarki henshawi) (LCT). LCT are currently listed as threatened under the Endangered Species Act, 16 U.S.C. 1531-44. The lake fishery is maintained by hatchery production. Weber Dam is one of many structures on the Walker River that prevents LCT from migrating from the lake to a historical habitat in the Walker River basin.

Construction of Weber Dam, which is an earthen structure, began in 1934. It was completed in 1937. The dam serves to store water for irrigation of farmland on the Walker River Paiute Reservation. Because it sits on an earthquake fault and has been leaking for many years, the BIA has determined, under the Indian Dams Safety Act, 25 U.S.C. 3801-04, that Weber Dam is a high hazard dam. This means that if the dam should fail, there is a potential for loss of human life downstream. The BIA has therefore assigned Weber Dam the highest priority for modification due to its unsafe condition.

On September 30, 1991, the Tribe entered into a contract with BIA pursuant to Public Law 93-638, under which the Tribe will carry out the BIA's responsibilities for repair and modification of Weber Dam pursuant to the Indian Dams Safety Act, including the preparation of environmental compliance documents. In this case, after completing an Environmental Assessment in 1994 and Supplemental Assessment in 1998, the BIA, in consultation with the Tribe, determined that an EIS is needed in order to analyze the effects of the proposed project on the human environment. The design and specifications for the repair and modification were provided by the Bureau of Reclamation.

The proposed action to be addressed in the EIS is the repair and modification of Weber Dam, pursuant to the Indian Dams Safety Act. Alternatives to the proposed action include no action, relocating a section of the dam from an existing earthquake fault, renovating the outlet works, reestablishing a wetlands area and removing the impediment to upstream and downstream passage for LCT. The effect of the proposed action on LCT is a primary area of environmental concern to be addressed in the EIS.

Public Comment Solicitation

As an alternative to submitting written comments regarding the content of the EIS to the locations identified in the ADDRESSES section, interested persons may instead comment via the Internet to AmyHeuslein@bia.gov or to ChuckO'Rourke@bia.gov. Please submit Internet comments as an ASCII file, avoiding the use of special characters and any form of encryption. If you do not receive confirmation from the system that your Internet message was received, contact Amy Heuslein at (602) 379-6750, or Chuck O'Rourke at (775) 887-3550.

Comments, including names and home addresses of respondents, will be available for public review at the mailing addresses shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR Parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.1.

Dated: April 12, 2001.
James H. McDivitt,
Deputy Assistant Secretary—Indian Affairs (Management).

[FR Doc. 01-12371 Filed 5-15-01; 8:45 am]

BILLING CODE 4310-02-P